DEPARTMENT OF AGRICULTURE

Food and Nutrition Service

Agency Information Collection Activities: WIC & FMNP Outreach, Innovation, and Modernization Evaluation

AGENCY: Food and Nutrition Service (FNS), Department of Agriculture (USDA).

ACTION: Notice.

SUMMARY: In accordance with the Paperwork Reduction Act of 1995, this notice invites the general public and other public agencies to comment on this proposed information collection. This collection is a new collection. The purpose of this information collection is to provide information on the implementation and effectiveness of modernization projects across all 88 Special Supplemental Nutrition Program for Women, Infants, and Children (WIC) State agencies to help identify successes, opportunities for improvement, and areas for additional support from FNS to strengthen project implementation.

DATES: Written comments must be received on or before December 27, 2024.

ADDRESSES: Comments may be emailed to Carol.Dreibelbis@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or requests for copies of this information collection should be directed to Carol Dreibelbis at Carol.Dreibelbis@usda.gov or 703-305-2161.

SUPPLEMENTARY INFORMATION: The American Rescue Plan Act of 2021 (ARPA), which was signed into law in March 2021, provided USDA with $390 million and waiver authority for outreach, innovation, and program modernization in WIC and the WIC Farmers' Market Nutrition Program (FMNP). FNS is interested in understanding the implementation and outcomes related to these modernization efforts.

Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: WIC & FMNP Outreach, Innovation, and Modernization Evaluation.

Form Number: N/A.

OMB Number: 0584-NEW.

Expiration Date: Not Yet Determined.

Type of Request: New collection.

Abstract: The Special Supplemental Nutrition Program for Women, Infants, and Children (WIC) provides supplemental food, nutrition education, and referrals to health and social services to pregnant and postpartum women, infants, and children up to age 5 who are living in households with low incomes and are at nutritional risk. The WIC Farmers' Market Nutrition Program (FMNP) provides eligible WIC participants with FMNP benefits, in addition to their regular WIC benefits, which can be used to buy eligible foods from farmers, farmers' markets, or roadside stands that have been approved by the WIC State agency. While the benefits of participating in WIC have been well documented, WIC continues to reach only about half of those eligible to participate.¹ WIC has relied on a traditional service delivery model that includes potentially challenging requirements for participants—such as regular in-person-only appointments to determine eligibility and to continue receiving services; limited or no online or digital services; and in-person shopping only. In an effort to improve service delivery and permanently modernize WIC, the American Rescue Plan Act (ARPA) of 2021 provided FNS with $390 million and waiver authority to support WIC modernization. Under ARPA, FNS supports WIC modernization efforts by providing grants to all State agencies, offering waivers that support modernization efforts, collaborating with partners via cooperative agreements and contracts, and conducting projects. WIC modernization efforts seek to improve the WIC participant experience, reduce disparities in WIC service delivery, and increase WIC participation and retention.

¹ Kessler C., Bryant A., Munkacsy K., and Gray K. (2024). National- and State-Level Estimates of the Special Supplemental Nutrition Program for Women, Infants, and Children (WIC) Eligibility and WIC Program Reach in 2022. Prepared by Insight Policy Research, Contract No. 12319819A0005. Alexandria, VA: U.S. Department of Agriculture, Food and Nutrition Service, Office of Policy Support, Project Officer: Grant Lovellette. Available online at: www.fns.usda.gov/research-analysis.

The WIC & FMNP Outreach, Innovation, and Modernization Evaluation (WIC modernization evaluation) will help FNS understand the implementation and impacts of ARPA-funded projects and waivers to inform current and future modernization efforts. The WIC modernization evaluation has three components: an implementation study, a waiver study, and an impact study. The implementation study will provide a comprehensive understanding of project implementation while accommodating variations in the timing of projects within different program areas, implementation within and between State agencies, and innovative approaches. The implementation study component will collect a broad range of data from WIC State agencies, local agencies, clinics, vendors and authorized outlets (including farmers, farmers' markets, and roadside stands), and WIC participants. These data will provide current and ongoing information about modernization efforts in all 88 WIC State agencies.

The waiver study component will provide an understanding of waiver issuance and how State agencies used waivers. The waiver study will rely on many of the same data sources as the implementation study, especially the interviews with WIC State agencies. The study will also collect information on whether and how unique waivers were implemented by WIC State agencies to conduct the modernization projects.

The impact study component of the evaluation will measure the impact of the WIC and FMNP modernization projects on participants through key short-term and intermediate-term outcome measures, including enrollment, participation, retention, benefit redemption, participant experience (e.g., satisfaction), and disparities in program delivery. It will address whether the modernization projects improved these key outcome measures and how changes in these outcomes were related to the number and type of modernization projects. While most outcomes will be measured with administrative data (collected under existing projects), the impact study will also use surveys to learn about the experiences and satisfaction of WIC program staff, vendor/authorized outlet staff, and participants with the changes to the WIC program because of the modernization activities. In addition, the impact study will rely on information from the implementation and waiver studies regarding where and when projects and waivers were implemented.

Affected Public: Identified respondent groups include the following:

1. State, local, and tribal governments: WIC State agency staff in all 88 State agencies and local agency and clinic staff in every State agency jurisdiction.

2. Business (profit, non-profit, or farm) respondents: WIC and FMNP vendors and authorized outlet staff in every State agency jurisdiction.

3. Individual/household respondents: WIC participants in every State agency jurisdiction.

Estimated Number of Respondents: The total estimated number of respondents is 186,608. Of the 186,608 respondents to be contacted, 24,564 are expected to be responsive and 162,044 are expected to be nonresponsive. The breakout is as follows:

1. 5,938 State, local, and tribal government staff: Of the 132 State agency staff contacted for an interview, 132 are expected to be responsive. Of the 222 local agency and clinic staff contacted for a case study interview, 160 are expected to be responsive. Of the 5,200 State agency, local agency, and clinic staff contacted for a survey, 4,160 are expected to be responsive. Of the 88 State agency staff invited for a webinar, 88 are expected to be responsive. Of the 176 State agency staff invited for a data collection planning meeting, 176 are expected to be responsive. Of the 88 State agency staff asked to support data collection, 88 are expected to be responsive. Of the 32 local agency staff invited for a data collection planning meeting and support data collection, 32 are expected to be responsive.

2. 4,200 business respondents: Of the 100 WIC vendor/outlet staff contacted for a case study interview, 68 are expected to be responsive. Of the 4,100 WIC vendor/outlet staff contacted for a survey, 3,280 are expected to be responsive.

3. 176,470 individual respondents: Of the 920 WIC participants contacted for a case study focus group, 580 are expected to be responsive. Of the 175,550 WIC participants contacted for a survey, 15,800 are expected to be responsive.

Estimated Number of Responses per Respondent: 9.2 across the entire collection, including respondents who receive communications but do not provide data for the study. The breakout is as follows:

1. State agency staff: 6.3 responses per respondent. 132 State agency staff will be asked to complete a virtual interview (each year, for three years) and 1,300 State agency staff will be asked to complete a survey. Prior to data collection, they will receive advanced communications about the study. 88 State agency staff will be invited to attend a webinar. 176 State agency staff will be invited to attend a planning meeting. 88 State agency staff will be asked to support data collection.

2. Local agency and clinic staff: 6.6 responses per respondent. 222 local agency and clinic staff will be asked to complete an in-person interview and 3,900 will be asked to complete a survey. Prior to data collection, they will receive advanced communications about the study. 32 local agency staff will be asked to attend a planning meeting and support data collection.

3. WIC vendor/outlet staff: 10.8 responses per respondent. 100 vendor/outlet staff will be asked to complete an in-person case study interview and 4,100 will be asked to complete a survey. Prior to data collection, they will receive advanced communications about the study.

4. Individual respondents: 9.3 responses per respondent. 920 WIC participants will be asked to participate in a case study focus group and 175,550 will be asked to complete a survey. Prior to data collection, they will receive advanced communications about the study.

Estimated Total Annual Responses: Including respondents who receive communications but do not provide data for the study, there are an estimated 1,717,385 total responses and 572,462 annual responses. This is an estimated annual average, as data collection activities will take place over the course of three years: 2025, 2026, and 2027.

Estimated Time per Response: The estimated time of responses varies from 1 minute (0.0167 hours) for receipt of a text or email to 3.0167 hours for local agency staff planning and supporting data collection for case studies. Including respondents who receive communications but do not provide data for the study, the estimated average response time is about 1.2 minutes (0.02 hours).

Estimated Total Annual Burden on Respondents: Including burden on respondents who receive communications but do not provide data for the study, there is an estimated 32,108 hours of total burden and 10,703 hours of annual burden on respondents. This is an estimated annual average, as data collection activities will take place over the course of three years: 2025, 2026, and 2027. Please see the table below for estimated total annual burden for each type of respondent.

BILLING CODE 3410-30-P

Tameka Owens,
Acting Administrator and Assistant Administrator, Food and Nutrition Service.

[FR Doc. 2024-25008 Filed 10-25-24; 8:45 am]

BILLING CODE 3410-30-C